DEPARTMENT OF TRANSPORTATION

Federal Aviation Administration

14 CFR Part 39

[Docket No. FAA-2006-26558; Directorate Identifier 2006-NM-206-AD; Amendment 39-14954; AD 2007-04-22]

RIN 2120-AA64

Airworthiness Directives; Bombardier Model DHC-8-102, -103, and -106 Airplanes; and Model DHC-8-200 and DHC-8-300 Series Airplanes

AGENCY: Federal Aviation Administration (FAA), Department of Transportation (DOT).

ACTION: Final rule.

SUMMARY: The FAA is adopting a new airworthiness directive (AD) for certain Bombardier Model DHC-8-100 (as described above), DHC-8-200, and DHC-8-300 series airplanes. This AD requires doing a one-time inspection for damage of the electrical cable harness assembly located on the left and right wing root-to-fuselage aft seal, and repair if necessary; and reworking the fuselage aft seal assembly (left and right) to create a clearance between the electrical cable assemblies and the edge of the fairing panel. This AD results from a report that an airplane encountered an uncommanded propeller feathering during climb, which resulted in an emergency landing. We are issuing this AD to prevent chafing or grounding of the wiring against the aft seal assemblies, which, if not corrected, could interrupt the operation of various systems, including the propeller feather control, alternating current (AC) electrical power, and standby hydraulic power, and result in reduced controllability of the airplane.

DATES: This AD becomes effective April 3, 2007.

The Director of the Federal Register approved the incorporation by reference of a certain publication listed in the AD as of April 3, 2007.

ADDRESSES: You may examine the AD docket on the Internet at http://dms.dot.gov or in person at the Docket Management Facility, U.S. Department of Transportation, 400 Seventh Street SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: Douglas Wagner, Aerospace Engineer, Systems and Flight Test Branch, ANE-172, FAA, New York Aircraft Certification Office, 1600 Stewart Avenue, suite 410, Westbury, New York 11590; telephone (516) 228-7306; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model DHC-8-102, -103, and -106 airplanes, and Model DHC-8-200 and DHC-8-300 series airplanes. That NPRM was published in the Federal Register on December 11, 2006 (71 FR 71492). That NPRM proposed to require doing a one-time inspection for damage of the electrical cable harness assembly located on the left and right wing root-to-fuselage aft seal, and repair if necessary; and reworking the fuselage aft seal assembly (left and right) to create a clearance between the electrical cable assemblies and the edge of the fairing panel.

Comments

We provided the public the opportunity to participate in the development of this AD. We received no comments on the NPRM or on the determination of the cost to the public.

Conclusion

We have carefully reviewed the available data and determined that air safety and the public interest require adopting the AD as proposed.

Costs of Compliance

This AD affects about 136 airplanes of U.S. registry. The required actions take about 4 work hours per airplane, at an average labor rate of $80 per work hour. Required parts cost about $75 per airplane. Based on these figures, the estimated cost of this AD for U.S. operators is $53,720, or $395 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-04-22 Bombardier, Inc. (Formerly de Havilland, Inc.): Amendment 39-14954. Docket No. FAA-2006-26558; Directorate Identifier 2006-NM-206-AD.

Effective Date

(a) This AD becomes effective April 3, 2007.

Affected ADs

(b) None.

Applicability

(c) This AD applies to Bombardier Model DHC-8-102, -103, and -106 airplanes, and Model DHC-8-200 and DHC-8-300 series airplanes, certificated in any category; serial numbers 003 through 606 inclusive.

Unsafe Condition

(d) This AD results from a report that an airplane encountered an uncommanded propeller feathering during climb, which resulted in an emergency landing. We are issuing this AD to prevent chafing or grounding of the wiring against the aft seal assemblies, which, if not corrected, could interrupt the operation of various systems, including the propeller feather control, alternating current (AC) electrical power, and standby hydraulic power, and result in reduced controllability of the airplane.

Compliance

(e) You are responsible for having the actions required by this AD performed within the compliance times specified, unless the actions have already been done.

Inspection and Rework

(f) Within 6,000 flight hours after the effective date of this AD, do the actions specified in paragraphs (f)(1) and (f)(2) of this AD. Do all actions in accordance with Bombardier Service Bulletin 8-24-83, Revision A, dated August 2, 2005. The actions in paragraph (f)(1) of this AD must be done before the rework in paragraph (f)(2) of this AD.

Note 1: Bombardier Service Bulletin 8-24-83, Revision A, contains the instructions for incorporating Bombardier Modification Summary Package 8Y122031, Revision B, dated December 2, 2004. (The technical content of Bombardier Modification Summary Package IS8Q2400005, Revision C, dated January 7, 2005, is equivalent to Bombardier Modification Summary Package 8Y122031, Revision B.)

(1) Do a general visual inspection for damage of the electrical cable harness assembly located on the left and right wing root-to-fuselage aft seal. If any damage is found, repair the damage before further flight.

(2) Rework the fuselage aft seal assembly (left and right) to create a clearance between the electrical cable assemblies and the edge of the fairing panel.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Actions Accomplished in Accordance With Previous Revision of Service Bulletin

(g) Actions done before the effective date of this AD in accordance with Bombardier Service Bulletin 8-24-83, dated December 23, 2004, are acceptable for compliance with the corresponding requirements in paragraph (f) of this AD.

Alternative Methods of Compliance (AMOCs)

(h)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Canadian airworthiness directive CF-2006-15, dated June 14, 2006, also addresses the subject of this AD.

Material Incorporated by Reference

(j) You must use Bombardier Service Bulletin 8-24-83, Revision A, dated August 2, 2005, to perform the actions that are required by this AD, unless the AD specifies otherwise. The Director of the Federal Register approved the incorporation by reference of this document in accordance with 5 U.S.C. 552(a) and 1 CFR part 51. Contact Bombardier, Inc., Bombardier Regional Aircraft Division, 123 Garratt Boulevard, Downsview, Ontario M3K 1Y5, Canada, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on February 12, 2007.
Ali Bahrami,
Manager, Transport Airplane Directorate, Aircraft Certification Service.

[FR Doc. E7-2972 Filed 2-26-07; 8:45 am]

BILLING CODE 4910-13-P